DEPARTMENT OF COMMERCE

International Trade Administration

North American Free-Trade Agreement, Article 1904 NAFTA Panel Reviews; Completion of Panel Review

AGENCY: NAFTA Secretariat, United States Section, International Trade Administration, Department of Commerce.

ACTION: Notice of Completion of Panel Review of the final injury determination made by the U.S. International Trade Commission, in the matter of Certain Softwood Lumber Products From Canada, Secretariat File No. USA-CDA-2002-1904-07.

SUMMARY: Pursuant to the Order of the Extraordinary Challenge Committee issued August 10, 2005, affirming the final injury determination described above, this review was completed on August 11, 2005.

FOR FURTHER INFORMATION CONTACT: Caratina L. Alston, United States Secretary, NAFTA Secretariat, Suite 2061, 14th and Constitution Avenue, Washington, DC 20230, (202) 482-5438.

SUPPLEMENTARY INFORMATION: On August 10, 2005, the Extraordinary Challenge Committee issued a decision which affirmed the final remand opinion of the Binational Panel concerning Certain Softwood Lumber Products From Canada—Injury Determination. Based on the decision of the Extraordinary Challenge Committee, the Binational Panel members are discharged from their duties effective August 11, 2005.

Dated: August 11, 2005.
Caratina L. Alston,
United States Secretary, NAFTA Secretariat.

[FR Doc. E5-4493 Filed 8-16-05; 8:45 am]

BILLING CODE 3510-GT-P